DEPARTMENT OF AGRICULTURE

Animal and Plant Health Inspection Service

[Docket No. APHIS-2006-0043]

Notice of Request for Approval of an Information Collection; Peer Reviewer's Certification Regarding Conflict of Interest

AGENCY: Animal and Plant Health Inspection Service, USDA.

ACTION: New information collection; comment request.

SUMMARY: In accordance with the Paperwork Reduction Act of 1995, this notice announces the Animal and Plant Health Inspection Service's intention to request approval of a new information collection activity related to peer review of scientific information disseminated to the public by the Agency.

DATES: We will consider all comments that we receive on or before June 19, 2006.

ADDRESSES: You may submit comments by either of the following methods:

• Federal eRulemaking Portal: Go to http://www.regulations.gov and, in the lower “Search Regulations and Federal Actions” box, select “Animal and Plant Health Inspection Service” from the agency drop-down menu, then click on “Submit.” In the Docket ID column, select APHIS-2006-0043 to submit or view public comments and to view supporting and related materials available electronically. After the close of the comment period, the docket can be viewed using the “Advanced Search” function in Regulations.gov.

• Postal Mail/Commercial Delivery: Please send four copies of your comment (an original and three copies) to Docket No. APHIS-2006-0043, Regulatory Analysis and Development, PPD, APHIS, Station 3A-03.8, 4700 River Road Unit 118, Riverdale, MD 20737-1238. Please state that your comment refers to Docket No. APHIS-2006-0043.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on APHIS' peer review process or the peer reviewer's certification regarding conflict of interest, contact Dr. Natalie Roberts, APHIS Peer Review Officer, Planning, Evaluation, and Monitoring, PPD, APHIS, Station 3C-03.27, 4700 River Road Unit 120, Riverdale, MD 20737-1238; phone (301) 734-8937 or e-mail natalie.a.roberts@aphis.usda.gov. For copies of more detailed information on the information collection, contact Mrs. Celeste Sickles, APHIS' Information Collection Coordinator, at (301) 734-7477.

SUPPLEMENTARY INFORMATION: Title: APHIS Peer Reviewer's Certification Regarding Conflict of Interest.

OMB Number: 0579-XXXX.

Type of Request: Approval of a new information collection.

Abstract: The Animal and Plant Health Inspection Service (APHIS) is responsible for protecting and promoting U.S. agricultural health, administering the Animal Welfare Act, and carrying out wildlife damage management activities. In carrying out its mission, APHIS collects, generates, and disseminates a wide variety of scientific information.

Some of the information APHIS disseminates is “influential”—that is, it has a clear and substantial impact on important public policies or important private sector decisions. A very small portion of APHIS' scientific information takes the form of “highly influential scientific assessments,” which have a potential impact of more than $500 million in any year, or are novel, controversial, precedent-setting, or of significant interagency interest.

In order to ensure the objectivity and highest level of quality of such scientific information, APHIS arranges for these documents to be peer reviewed in accordance with the Office of Management and Budget's (OMB's) “Final Information Quality Bulletin for Peer Review,” which was published in the Federal Register on January 14, 2005, and is available on the Web at http://www.whitehouse.gov/omb/fedreg/2005/011405_peer.pdf.

To ensure the effectiveness and integrity of the peer review process, APHIS pays careful attention to potential conflicts of interest when selecting peer reviewers. APHIS has developed a standard letter to prospective peer reviewers, which, among other things, asks them to consider whether they may have a conflict of interest related to review of a specific scientific document and, if not, asks them to sign a form certifying that they have no conflicting interests.

We are asking OMB to approve our use of this information collection activity for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.25 hours per response.

Respondents: Peer reviewers for agency scientific documents.

Estimated annual number of respondents: 50.

Estimated annual number of responses per respondent: 1.

Estimated annual number of responses: 50.

Estimated total annual burden on respondents: 12.5 hours. (Due to averaging, the total annual burden hours may not equal the product of the annual number of responses multiplied by the reporting burden per response.)

All responses to this notice will be summarized and included in the request for OMB approval. All comments will also become a matter of public record.

Done in Washington, DC, this 13th day of April 2006.
Kevin Shea,
Acting Administrator, Animal and Plant Health Inspection Service.

[FR Doc. E6-5880 Filed 4-18-06; 8:45 am]

BILLING CODE 3410-34-P